DEPARTMENT OF HEALTH AND HUMAN SERVICES

Meeting of the Secretary's Advisory Committee on Human Research Protections

AGENCY: Office of the Assistant Secretary for Health, Office of the Secretary, Department of Health and Human Services.

ACTION: Notice.

SUMMARY: Pursuant to Section 10(a) of the Federal Advisory Committee Act, notice is hereby given that the Secretary's Advisory Committee on Human Research Protections (SACHRP) will hold a meeting that will be open to the public. Information about SACHRP, the full meeting agenda, and instructions for linking to public access will be posted on the SACHRP website at https://www.hhs.gov/ohrp/sachrp-committee/meetings/index.html.

DATES: The meeting will be held on Wednesday, October 19, 2022 from 10:00 a.m. until 4:00 p.m., and Thursday, October 20, 2022, from 10:00 a.m. until 4:00 p.m. (times are tentative and subject to change). The confirmed times and agenda will be posted on the SACHRP website when this information becomes available. See https://www.hhs.gov/ohrp/sachrp-committee/meetings/index.html.

ADDRESSES: This meeting will be held virtually and videocast. Members of the public may also submit public comment for the meeting. Instructions for submitting public comment will be posted one week prior to the meeting at https://www.hhs.gov/ohrp/sachrp-committee/meetings/index.html.

FOR FURTHER INFORMATION CONTACT: Julia Gorey, J.D., Executive Director, SACHRP; U.S. Department of Health and Human Services, 1101 Wootton Parkway, Suite 200, Rockville, Maryland 20852; telephone: 240-453-8141; fax: 240-453-6909; email address: SACHRP@hhs.gov.

SUPPLEMENTARY INFORMATION: Under the authority of 42 U.S.C. 217a, section 222 of the Public Health Service Act, as amended, SACHRP was established to provide expert advice and recommendations to the Secretary of Health and Human Services, through the Assistant Secretary for Health, on issues and topics pertaining to or associated with the protection of human research subjects.

The Subpart A Subcommittee (SAS) was established by SACHRP in October 2006 and is charged with developing recommendations for consideration by SACHRP regarding the application of subpart A of 45 CFR part 46 in the current research environment. The Subcommittee on Harmonization (SOH) was established by SACHRP at its July 2009 meeting and charged with identifying and prioritizing areas in which regulations and/or guidelines for human subjects research adopted by various agencies or offices within HHS would benefit from harmonization, consistency, clarity, simplification and/or coordination.

The SACHRP meeting will open to the public at 10:00 a.m., on Wednesday, October 19, 2022, followed by opening remarks from Dr. Jerry Menikoff, Director of OHRP and Dr. Douglas Diekema, SACHRP Chair. The meeting will begin with a discussion of the impact of social media use by research subjects; this will be followed by the review and potential amendment of previously approved SACHRP recommendations on the ethical and regulatory considerations for the use of artificial intelligence in human subjects research. The second day, Thursday, October 20th, is reserved for upcoming agenda items; for the full and updated meeting agenda, see http://www.dhhs.gov/ohrp/sachrp-committee/meetings/index.html. The meeting will adjourn by 4:00 p.m. October 20th, 2022.

The public may submit written public comment in advance which will be circulated to committee members and may be read aloud during the meeting. Individuals submitting written public comment should submit their comments to SACHRP at SACHRP@hhs.gov by midnight October 14th, 2022, ET.

Time will be allotted for public comment on both days. Note that public comment must be relevant to topics currently being addressed by the SACHRP.

Julia G. Gorey,
Executive Director, SACHRP, Office for Human Research Protections.

[FR Doc. 2022-21163 Filed 9-28-22; 8:45 am]

BILLING CODE 4150-36-P